Proclamation 10152 of March 1, 2021

National Colorectal Cancer Awareness Month, 2021

By the President of the United States of America

A Proclamation

For my family, for the Vice President's family, and for millions of families across our Nation, the fight against cancer is personal. Too many of us know the sinking feeling of shock and devastation when a loved one receives a diagnosis of cancer—too many of us know the unspeakable pain when the fight cannot be won. Each year, colorectal cancer claims more than 50,000 American lives, making it the second leading cause of cancer deaths in our Nation. National Colorectal Cancer Awareness Month is a chance to bring greater attention to this terrible disease and to offer what families living through it need most: hope.

In this battle, hope and awareness are intertwined. Because the risk of death from colorectal cancer drops dramatically when the cancer is caught early, we can save lives by calling attention to risk factors and increasing routine screening. This month is our chance to improve public understanding of colorectal cancer risk, inform people about screening recommendations, and set our sights on broadening prevention strategies, improving treatments, and finding a cure.

Colorectal cancer can afflict anyone, but the risk is higher among some Americans than others. When we lost the trailblazing actor Chadwick Boseman to colon cancer last year after a heroic fight, it served as a reminder that this disease disproportionately impacts communities of color—and is particularly fatal among Black Americans. Age, too, is a factor, as the majority of cases occur in people over 50 years old. People with increased risk for developing the disease include certain racial and ethnic minority populations, as well as individuals with inflammatory bowel disease, a family history of colorectal cancer, or other risk factors such as tobacco use. For more information on risk factors, you can visit www.cancer.gov.

As with so many diseases, the best defense against colorectal cancer is early detection. Symptoms can include blood in the stool; stomach pain, aches, or cramps that do not go away; and weight loss without a known cause. But many cases have no symptoms, especially early in the disease, when colorectal cancer is most curable. A recent Government study estimated that if all 50-year-old adults were screened for colorectal cancer, we could prevent approximately 35,000 deaths. That is why it is so crucial, especially for Americans over 50 or otherwise at increased risk, to receive regular screenings. And although the disease is relatively rare in younger adults, the incidence of colorectal cancer has been rising among this group. No matter your age, every American should take possible colorectal cancer symptoms seriously and bring them to the attention of your health care provider.

I know how hard it is right now to be mindful of preventive care. The COVID-19 pandemic has disrupted so many parts of our lives, including, for far too many, the routine checkups and screenings that are so vital to guarding against disease. I urge every American to take the precautions they need in order to stay vigilant against cancer—don't delay your recommended screenings, doctor's visits, and treatments. You and your healthcare provider can discuss how to balance the risks and benefits of cancer screening, taking into account medical history, family history, other risk factors, and the time between screenings.

My Administration is strongly committed to improving the prevention and treatment of colorectal cancer, and to giving every American access to quality, affordable health coverage. Because of the Affordable Care Act, most health insurance plans must cover a set of preventive services with no out-of-pocket cost. This includes colorectal cancer screening in adults age 50 and older. In response to the COVID-19 pandemic, my Administration also announced a Special Enrollment Period for the Health Insurance Marketplace now through May 15th, so that millions of uninsured individuals and families can sign up for health coverage and gain these protections. I encourage you to visit www.healthcare.gov to explore your eligibility and get covered.

Above all, I want every family facing this fight—and all those that will in the future—to know that there is hope. As President, I am committed to ending cancer as we know it. That mission motivated me every day when I led the Cancer Moonshot Initiative in 2016 to speed up progress toward prevention, treatment, and cures. Thanks to that effort, researchers, oncologists, care providers, philanthropists, data and tech experts, advocates, patients, and survivors have joined forces to double the rate of progress toward a cure for cancer. One particular program, Accelerating Colorectal Cancer Screening and follow-up through Implementation Science (ACCSIS), has made strides to improve colorectal cancer screening, follow-up, and referral for care among populations that have low screening rates, including communities of color and rural Americans. You can read more about this important work by visiting www.cancer.gov and www.cdc.gov/cancer.

This month, I encourage all Americans to talk to family and friends about getting screened. If we look out for one another, we can reduce suffering, increase the odds of cancer survival, keep more families whole, and win this fight once and for all.

NOW, THEREFORE, I, JOSEPH R. BIDEN JR., President of the United States of America, by virtue of the authority vested in me by the Constitution and the laws of the United States, do hereby proclaim March 2021 as National Colorectal Cancer Awareness Month. I encourage all citizens, government agencies, private businesses, non-profit organizations, and other groups to join in activities that will increase awareness and prevention of colorectal cancer.

IN WITNESS WHEREOF, I have hereunto set my hand this first day of March, in the year of our Lord two thousand twenty-one, and of the Independence of the United States of America the two hundred and forty-fifth.

[FR Doc. 2021-04644

Filed 3-3-21; 8:45 am]

Billing code 3295-F1-P